DEPARTMENT OF ENERGY

Federal Energy Regulatory Commission

[Docket No. RP01-460-001]

Canyon Creek Compression Company; Notice of Compliance Filing

August 8, 2001.

Take notice that on August 6, 2001, Canyon Creek Compression Company (Canyon) tendered for filing to be part of its FERC Gas Tariff, Third Revised Volume No. 1, the tariff sheets listed on Appendix A to the filing, to be effective July 23, 2001.

Canyon states that the purpose of this filing is to comply with the Commission's Letter Order in Docket No. RP01-460-000 issued on July 20, 2001.

Canyon states that copies of the filing are been mailed to each person designated on the official service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20334 Filed 8-13-01; 8:45 am]

BILLING CODE 6717-01-P